SECURITIES AND EXCHANGE COMMISSION

[Release No. 34-100675; File No. SR-MIAX-2024-03]

Self-Regulatory Organizations; MIAX International Securities Exchange LLC; Notice of Withdrawal of Proposed Rule Change To Permit the Exchange To List and Trade Options on Exchange-Traded Fund Shares That Represent Interests in a Trust That Holds Bitcoin

August 8, 2024.

Pursuant to Section 19(b)(1) of the Securities Exchange Act of 1934 (“Act”) ¹ and Rule 19b-4 thereunder,² MIAX International Securities Exchange LLC (“MIAX”) filed with the Securities and Exchange Commission (“Commission”) a proposed rule change to permit the Exchange to list and trade options on exchange-traded fund shares that represent interests in a trust that holds bitcoin (“Proposal”).

¹ 15 U.S.C. 78s(b)(1).

² 17 CFR 240.19b-4.

On January 25, 2024, the Proposal was published for comment in the Federal Register.³ On March 6, 2024, pursuant to Section 19(b)(2) of the Act,⁴ the Commission designated a longer period within which to approve the Proposal, disapprove the Proposal, or institute proceedings to determine whether to disapprove the Proposal.⁵ On April 24, 2024, the Commission instituted proceedings under Section 19(b)(2)(B) of the Act ⁶ to determine whether to approve or disapprove the Proposal.⁷ The Commission received comments addressing the Proposal.⁸

³ See Securities Exchange Act Release No. 99397 (Jan. 19, 2024), 89 FR 5079 (SR-MIAX-2024-03).

⁴ 15 U.S.C. 78s(b)(2).

⁵ See Securities Exchange Act Release No. 99684 (Mar. 6, 2024), 89 FR 17887 (Mar. 12, 2024).

⁶ 15 U.S.C. 78s(b)(2)(B).

⁷ See Securities Exchange Act Release No. 100024 (Apr. 24, 2024), 89 FR 34290 (Apr. 30, 2024).

⁸ Comment letters on the Proposal are available at https://www.sec.gov/comments/sr-miax-2024-03/srmiax202403.htm.

On July 19, 2024, the Commission designated a longer time for Commission action on the Proposal.⁹ On August 1, 2024, MIAX withdrew the Proposal (SR-MIAX-2024-03).

⁹ See Securities Exchange Act Release No. 100567 (Jul. 19, 2024), 89 FR 60482 (Jul. 25, 2024).

For the Commission, by the Division of Trading and Markets, pursuant to delegated authority.¹⁰
¹⁰ 17 CFR 200.30-3(a)(12).
Sherry R. Haywood,
Assistant Secretary.

[FR Doc. 2024-18073 Filed 8-13-24; 8:45 am]

BILLING CODE 8011-01-P